DEPARTMENT OF COMMERCE

National Oceanic and Atmospheric Administration

50 CFR Part 300

[Docket No. 220801-0167]

RIN 0648-BK82

International Fisheries; Pacific Tuna Fisheries; 2022-2024 Commercial Fishing Restrictions for Pacific Bluefin Tuna in the Eastern Pacific Ocean

Correction

In rule document 2022-16824, appearing on pages 47939 through 47944 in the issue of Friday, August 5, 2022, make the following correction:

§ 300.25 Fisheries management. [Corrected]

On page 47943, in the second table, on the second line, “(ii) January through June” should read “(i) January through June”.

[FR Doc. C1-2022-16824 Filed 8-8-22; 8:45 am]

BILLING CODE 0099-10-D